DEPARTMENT OF COMMERCE

Bureau of Industry and Security

15 CFR Part 744

[Docket No. 250416-0068]

RIN 0694-AK06

Revisions to the Unverified List

AGENCY: Bureau of Industry and Security, Department of Commerce.

ACTION: Final rule.

SUMMARY: The Bureau of Industry and Security (BIS) is amending the Export Administration Regulations (EAR) by adding 18 persons to the Unverified List (UVL). Of the 18 persons being added: five are under the destination of China, People's Republic of (China); six are under the destination of Finland; three are under the destination of Türkiye; two are under the destination of Kazakhstan; one is under the destination of Italy; and one is under the destination of the United Kingdom. BIS is also amending the EAR by removing five persons from the UVL. Of the five persons being removed, three are under the destination of China and two are under the destination of the United Arab Emirates.

DATES: This rule is effective: April 25, 2025.

FOR FURTHER INFORMATION CONTACT: Deniz Muslu, Director, Office of Enforcement Analysis, Phone: (202) 482-4255, Email: UVLRequest@bis.doc.gov.

SUPPLEMENTARY INFORMATION:

Background

The UVL, found in supplement no. 6 to part 744 of the EAR (15 CFR parts 730-774), contains the names and addresses of foreign persons who are or have been parties to a transaction, as described in § 748.5 of the EAR, involving the export, reexport, or transfer (in-country) of items subject to the EAR. These foreign persons are added to the UVL because BIS or federal officials acting on BIS's behalf were unable to verify their bona fides (i.e., legitimacy and reliability relating to the end use and end user of items subject to the EAR) through the completion of an end-use check. Sometimes these checks, such as a pre-license check (PLC) or a post-shipment verification (PSV), cannot be completed satisfactorily for reasons outside of the U.S. Government's control.

There are any number of reasons why these checks cannot be completed to the satisfaction of the U.S. Government. The reasons include, but are not limited to: (1) reasons unrelated to the cooperation of the foreign party subject to the end-use check (e.g., BIS sometimes initiates end-use checks but is unable to complete them because the foreign party cannot be found at the address indicated on the associated export documents and BIS cannot contact the party by telephone or email); (2) reasons related to a lack of cooperation by a host government that fails to schedule and facilitate the completion of an end-use check (e.g., a host government agency fails to respond to requests to conduct end-use checks, undertakes actions preventing the scheduling of such checks, or refuses to schedule checks in a timely manner); or (3) when, during the end-use check, a recipient of items subject to the EAR is unable to produce the items that are the subject of the end-use check for visual inspection or provide sufficient documentation or other evidence to confirm the disposition of the items.

BIS's inability to confirm the bona fides of foreign persons subject to end-use checks raises concerns about the suitability of such persons as participants in future exports, reexports, or transfers (in-country) of items subject to the EAR. An inability to confirm bona fides also indicates a risk that such items may be diverted to prohibited end uses and/or end users. Under such circumstances, there may not be sufficient information to add the foreign person at issue to the Entity List (supplement no. 4 to part 744 of the EAR). Therefore, BIS may add the foreign person to the UVL.

As provided in § 740.2(a)(17) of the EAR, the use of license exceptions for exports, reexports, and transfers (in-country) involving a party or parties to the transaction who are listed on the UVL is suspended. Additionally, under § 744.15(b) of the EAR, there is a requirement for exporters, reexporters, and transferors to obtain, and maintain a record of, a UVL statement from a party or parties to a transaction who are listed on the UVL before proceeding with exports, reexports, and transfers (in-country) to such persons, when the items to be exported, reexported, or transferred (in-country) are not subject to a license requirement. Finally, pursuant to § 758.1(b)(8), Electronic Export Information (EEI) must be filed in the Automated Export System (AES) for all exports of tangible items subject to the EAR where parties to the transaction, as described in § 748.5(d) through (f), are listed on the UVL.

Requests for the removal of a UVL entry must be made in accordance with § 744.15(d) of the EAR. Decisions regarding the removal or modification of a UVL entry will be made by the Deputy Assistant Secretary for Export Enforcement, based on a demonstration by the listed person of their bona fides. As provided in § 744.15(c)(2) of the EAR, BIS will remove a person from the UVL when BIS is able to verify the bona fides of the listed person.

Additions to the UVL

Pursuant to § 744.15(c) of the EAR, this rule adds 18 persons to the UVL by amending supplement no. 6 to part 744 of the EAR to include their names and addresses. This final rule implements the decision to add the following 18 persons located in the following destinations to the UVL:

• Arctic Star Co., Ltd.; Henixio Aviation Co., Ltd.; Shusum Construction Ltd.; Sino-World International Co., Ltd.; and Vauxhall International Co., Ltd., under the destination of China;

• Buran TMI; Finland Multi Center FMC OY; Finnalliance OY; Inmargo OY; Karjalan Puutyo; and MM Cargo OY, under the destination of Finland;

• Euro Servizi Elettromeccanici Industriali SEI., under the destination of Italy;

• EltexAlatau and Inter-Traid Electro, under the destination of Kazakhstan;

• Bagil Havacilik, Basak Traktor, and Ozkanlar Grup Makine AS, under the destination of Türkiye; and

• Identiparts Ltd., under the destination of the United Kingdom.

Removals From the UVL

This rule removes a total of five persons from the UVL by amending supplement no. 6 to part 744 of the EAR. The following four persons located in the following destinations are removed from the UVL because BIS was able to verify their bona fides: Bada Group Hong Kong Corporation, Limited and PNC Systems (Jiangsu) Co., Ltd. under the destination of China; and Lavender General Trading and Sea Prince Logistics LLC under the destination of the United Arab Emirates. BIS is removing these four persons pursuant to § 744.15(c)(2) of the EAR.

On October 23, 2024, in the final rule “Addition of Entities, Revision of an Entry, and Removal of Entries on the Entity List”, BIS added “Small Leopard Electronics Co., Ltd.” under the destination of China to the Entity List (89 FR 84460). Therefore, as a conforming change, this final rule also removes “Small Leopard Electronics Co., Ltd.”, under the destination of China, from the UVL.

Export Control Reform Act of 2018

On August 13, 2018, the President signed into law the John S. McCain National Defense Authorization Act for Fiscal Year 2019, which included the Export Control Reform Act of 2018 (ECRA), 50 U.S.C. 4801-4852. ECRA provides the legal basis for BIS's principal authorities and serves as the authority under which BIS issues this final rule. In particular, § 1753 of ECRA (50 U.S.C. 4812) authorizes the regulation of exports, reexports, and transfers (in-country) of items subject to U.S. jurisdiction. Further, § 1754(a)(1)-(16) of ECRA (50 U.S.C. 4813(a)(1)-(16)), authorizes, inter alia, requiring measures for compliance with the export controls established under ECRA; requiring and obtaining such information from U.S. persons and foreign persons as is necessary to carry out ECRA; apprising the public of changes in policy, regulations, and procedures; and any other action necessary to carry out ECRA that is not otherwise prohibited by law. Pursuant to § 1762(a) of ECRA (50 U.S.C. 4821(a)), these changes can be imposed in a final rule without prior notice and comment.

Savings Clause

Shipments (1) that are removed from license exception eligibility or that are now subject to requirements in § 744.15 of the EAR as a result of this regulatory action; (2) that were eligible for export, reexport, or transfer (in-country) without a license before this regulatory action; and (3) that were on dock for loading, on lighter, laden aboard an exporting carrier, or enroute aboard a carrier to a port of export, by April 25, 2025, pursuant to actual orders, may proceed to that UVL listed person under the previous license exception eligibility or without a license and pursuant to the export clearance requirements set forth in part 758 of the EAR that applied prior to this person being listed on the UVL, so long as the items have been exported from the United States, reexported, or transferred (in-country) before May 27, 2025. Any such items not actually exported, reexported or transferred (in-country) before midnight on May 27, 2025 are subject to the requirements in § 744.15 of the EAR in accordance with this rule.

Rulemaking Requirements

Executive Order Requirements

Executive Orders 13563 and 12866 direct agencies to assess all costs and benefits of available regulatory alternatives and, if regulation is necessary, to select regulatory approaches that maximize net benefits (including potential economic, environmental, public health and safety effects, distribute impacts, and equity). Executive Order 13563 emphasizes the importance of quantifying both costs and benefits, of reducing costs, of harmonizing rules, and of promoting flexibility. This final rule is not significant under Executive Order 12866. This final rule is not a regulatory action under Executive Order 14192, because it is not a significant rule under Executive Order 12866.

This rule does not contain policies with federalism implications as that term is defined under Executive Order 13132.

Paperwork Reduction Act Requirements

Notwithstanding any other provision of law, no person is required to respond to, nor is subject to a penalty for failure to comply with, a collection of information, subject to the requirements of the Paperwork Reduction Act of 1995 (44 U.S.C. 3501 et seq.) (PRA), unless that collection of information displays a currently valid Office of Management and Budget (OMB) Control Number.

The UVL additions contain collections of information approved by OMB under the following control numbers:

• OMB Control Number 0694-0088—Simple Network Application Process and Multipurpose Application Form

• OMB Control Number 0694-0122—Miscellaneous Licensing Responsibilities and Enforcement

• OMB Control Number 0694-0134—Entity List and Unverified List Requests

• OMB Control Number 0694-0137—License Exemptions and Exclusions

BIS believes that the overall increases in burdens and costs related to this rule will be minimal and will fall within the already approved amounts for these existing collections. Additional information regarding these collections of information—including all background materials—can be found at: https://www.reginfo.gov/public/do/PRAMain by using the search function to enter either the title of the collection or the OMB Control Number.

Administrative Procedure Act and Regulatory Flexibility Act Requirements

Pursuant to section 1762 of ECRA (50 U.S.C. 4821), this action is exempt from the Administrative Procedure Act, 5 U.S.C. 553, requirements for notice of proposed rulemaking and opportunity for public participation.

Further, no other law requires notice of proposed rulemaking or opportunity for public comment for this final rule. Because a notice of proposed rulemaking and an opportunity for public comment are not required under the Administrative Procedure Act or by any other law, the analytical requirements of the Regulatory Flexibility Act, 5 U.S.C. 601 et seq., are not applicable.

List of Subjects in 15 CFR Part 744

Exports, Reporting and recordkeeping requirements, Terrorism.

Accordingly, part 744 of the Export Administration Regulations (15 CFR parts 730 through 774) is amended as follows:

PART 744—END-USE AND END-USER CONTROLS

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 18, 2024, 89 FR 77011 (September 20, 2024); Notice of November 7, 2024, 89 FR 88867 (November 8, 2024).

2. Amend Supplement no. 6 to part 744 by:

a. Under CHINA, PEOPLE'S REPUBLIC OF:

i. Adding the entry, in alphabetical order, for the following entity: “Arctic Star Co., Ltd.;”

ii. Removing the entry for “Bada Group Hong Kong Corporation, Limited;”

iii. Adding the entry, in alphabetical order, for the following entity: “Henixio Aviation Co., Ltd.;”

iv. Removing the entry for “PNC Systems (Jiangsu) Co., Ltd.;”

v. Adding the entries, in alphabetical order, for the following entities: “Shusum Construction Ltd.;” and “Sino-World International Co., Ltd.;”

vi. Removing the entry for “Small Leopard Electronics Co., Ltd.;”

vii. Adding the entry, in alphabetical order, for the following entity: “Vauxhall International Co., Ltd.”

b. Under FINLAND adding entries, in alphabetical order, for the following entities: “Buran TMI;” “Finland Multi Center FMC OY;” “Finnalliance OY;” “Inmargo OY;” “Karjalan Puutyo;” and “MM Cargo OY;”

c. Adding a country listing for ITALY, in alphabetical order;

d. Under ITALY by adding an entry, in alphabetical order, for the following entity: “Euro Servizi Elettromeccanici Industriali SEI.;”

e. Adding a country listing for KAZAKHSTAN, in alphabetical order;

f. Under KAZAKHSTAN adding entries, in alphabetical order, for the following entities: “EltexAlatau;” and “Inter-Traid Electro;”

g. Under TÜRKIYE adding entries, in alphabetical order, for the following entities: “Under Türkiye, Bagil Havacilik;” “Basak Traktor;” and “Ozkanlar Grup Makine AS;”

h. Under UNITED ARAB EMIRATES removing the entries for “Lavender General Trading;” and “Sea Prince Logistics LLC;”

i. Adding a country listing for UNITED KINGDOM, in alphabetical order; and

j. Under UNITED KINGDOM by adding an entry, in alphabetical order, for the following entity: “Identiparts Ltd.”

The additions read as follows:

Supplement No. 6 to Part 744—Unverified List

* * * * *

Country | Listed person and address | Federal Register Citation
* * * * * * *
CHINA, PEOPLE'S REPUBLIC OF | * * * * * *
| Arctic Star Co., Ltd., Unit 1507, 15/F, Eastcore, 398 Kwun Tong Rd., Kwun Tong, Hong Kong | 90 FR [INSERT FEDERAL REGISTER PAGE NUMBER 04/25/2025].
| * * * * * *
| Henixio Aviation Co., Ltd., 108 Cheung Po, Pat Heung, New Territories, Hong Kong; and Room 218-9, 2/floor, Block B, Proficient Industrial Centre, 6 Wang Kwun Road, Kowloon Bay, Kowloon, Hong Kong; and Unit 1507E, 15/F, Eastcore, 398 Kwun Tong Road, Kwun Tong, Kowloon, Hong Kong | 90 FR [INSERT FEDERAL REGISTER PAGE NUMBER 04/25/2025].
| * * * * * *
| Shusum Construction Ltd., 9th floor, Huayuan Factory Building, 15 Beech Street, Tai Kok Tsui, Kowloon, Hong Kong | 90 FR [INSERT FEDERAL REGISTER PAGE NUMBER 04/25/2025].
| * * * * * *
| Sino-World International Co., Ltd., Flat 8, 20/F, Sunwise Industrial Building, 16-26 Wang Wo Tsai Street, Tsuen Wan, New Territories, Hong Kong; and Room 1303, 13/F, 287-289 Reclamation Street, Mong Kok, Kowloon, Hong Kong | 90 FR [INSERT FEDERAL REGISTER PAGE NUMBER 04/25/2025.
| * * * * * *
| Vauxhall International Co., Ltd., a.k.a. Vauxhall International Logistics Co., Ltd., DD102 LOT359RP-362, 365RP, 366RP, Warehouse B, San Tin, Yuen Long, New Territories, Hong Kong; and 8 Siu Hum Tsuen, San Tin, Yuen Long, New Territories, Hong Kong; and 11 Siu Hum Tsuen, San Tin, Yuen Long, New Territories, Hong Kong | 90 FR [INSERT FEDERAL REGISTER PAGE NUMBER 04/25/2025].
* * * * * * *
FINLAND | * * * * * *
| Buran TMI, Koverinkatu 2-31, Lappeenranta, Finland | 90 FR [INSERT FEDERAL REGISTER PAGE NUMBER 04/25/2025].
| Finland Multi Center FMC OY a.k.a. Finland Multi Center OY a.k.a. Finland Multi Center, Rajahovintie 14, Vaalimaa, 49930 Finland | 90 FR [INSERT FEDERAL REGISTER PAGE NUMBER 04/25/2025].
| Finnalliance OY, Poskelantie 3, Lappeenranta, Finland | 90 FR [INSERT FEDERAL REGISTER PAGE NUMBER 04/25/2025].
| Inmargo OY, Asentajankatu 15, Kotka, 48700, Finland; and Puutarhakatu 29 A 22, Kotka, Finland | 90 FR [INSERT FEDERAL REGISTER PAGE NUMBER 04/25/2025].
| * * * * * *
| Karjalan Puutyo, Vehkavaarantie 260, Onkamo, 82360, Finland | 90 FR [INSERT FEDERAL REGISTER PAGE NUMBER 04/25/2025].
| MM Cargo OY a.k.a. MM Cargo WH a.k.a. MM Cargo, Harapaisentie 55, Lappeenranta, 53500, Finland | 90 FR [INSERT FEDERAL REGISTER PAGE NUMBER 04/25/2025].
* * * * * * *
ITALY | Euro Servizi Elettromeccanici Industriali S.E.I., Via Sempione 17, 21011, Carorate Sempione, Italy | 90 FR [INSERT FEDERAL REGISTER PAGE NUMBER 04/25/2025].
KAZAKHSTAN | EltexAlatau, 34 Luganskogo Street, 2nd Floor, Almaty, Kazakhstan; and 9 Ibragimov Street, Alatau District, Almaty, Kazakhstan | 90 FR [INSERT FEDERAL REGISTER PAGE NUMBER 04/25/2025].
| Inter-Traid Electro a.k.a. Inter-Trade Electro LLP a.k.a. TOO “Inter-Treid Elektro” a.k.a. “Inter-Treid Elektro” J Sh S, 19 Orlikol Street, Astana, Kazakhstan | 90 FR [INSERT FEDERAL REGISTER PAGE NUMBER 04/25/2025].
* * * * * * *
TÜRKIYE | * * * * * *
| Bagil Havacilik, Eskicami-Ortacami Mah. Kafkas, Sok. No:15 B Suleymanpasa, Tekirdag, Türkiye | 90 FR [INSERT FEDERAL REGISTER PAGE NUMBER 04/25/2025].
| Basak Traktor, Hanli Sakarya Mah. Basak Sok., No:62/1 Arifiye, Sakarya, Türkiye | 90 FR [INSERT FEDERAL REGISTER PAGE NUMBER 04/25/2025].
| * * * * * *
| Ozkanlar Grup Makine AS, Ahi Evran OSB Mah. Anadolu Cad. NO:7, 06930 Sincan, Ankara, Türkiye | 90 FR [INSERT FEDERAL REGISTER PAGE NUMBER 04/25/2025].
* * * * * * *
UNITED KINGDOM | Identiparts Ltd., 32 Market Field, Steyning BN44 3SU, United Kingdom; and 65 Hurston Close, Findon Valley, Worthing, United Kingdom; and Hayes & CO, 2nd Floor, Olivier House, 77-79 High Street, Steyning, BN44 3RE, United Kingdom | 90 FR [INSERT FEDERAL REGISTER PAGE NUMBER 04/25/2025].

* * * * *

Eric Longnecker,
Deputy Assistant Secretary for Technology Security.

[FR Doc. 2025-07185 Filed 4-24-25; 8:45 am]

BILLING CODE 3510-33-P